DEPARTMENT OF COMMERCE

National Oceanic and Atmospheric Administration

Notice of Intent To Grant Exclusive License

AGENCY: National Oceanic and Atmospheric Administration (NOAA), Department of Commerce (DOC).

ACTION: Notice of intent.

SUMMARY: Notice is hereby given that the U.S. Department of Commerce, National Oceanic and Atmospheric Administration (NOAA), intends to grant to Picarro, Inc. of Santa Clara, California, an exclusive global license to its rights in “Methods For Rapid Gas Sampling With High Horizontal Spatial Resolution In A Manner Suitable For Subsequent Constituent Gas Analysis”.

DATES: Comments must be received on or before May 31, 2016.

ADDRESSES: Send comments to NOAA Technology Partnerships Office, SSMC4 Room 7606, 1305 East West Highway, Silver Spring, Maryland 20910.

FOR FURTHER INFORMATION CONTACT: Derek Parks, NOAA Technology Transfer Program Manager, at: derek.parks@noaa.gov.

SUPPLEMENTARY INFORMATION: The Federal Government's rights in this invention are assigned to the United States of America, as represented by the Secretary of Commerce. It is in the public interest to so license this invention, as Picarro, Inc. of Santa Clara, California, is a co-developer and co-patent holder for this technology. The prospective exclusive license will be royalty-bearing and will comply with the terms and conditions of 35 U.S.C. 209 and 37 CFR 404.7. The prospective exclusive license may be granted unless, within thirty (30) days from the date of this published Notice, the NOAA Technology Partnerships Office receives written evidence and argument which establishes the grant of the license would not be consistent with the requirements of 35 U.S.C. 209 and 37 CFR 404.7.

Dated: April 28, 2016.
Jason Donaldson,
Chief Financial Officer, Office of Oceanic and Atmospheric Research, National Oceanic and Atmospheric Administration.

[FR Doc. 2016-10372 Filed 5-3-16; 8:45 am]

BILLING CODE 3510-KD-P